FEDERAL EMERGENCY MANAGEMENT AGENCY

44 CFR Part 64

[Docket No. FEMA-7767]

Suspension of Community Eligibility

AGENCY: Federal Emergency Management Agency, FEMA.

ACTION: Final rule.

SUMMARY: This rule identifies communities, where the sale of flood insurance has been authorized under the National Flood Insurance Program (NFIP), that are suspended on the effective dates listed within this rule because of noncompliance with the floodplain management requirements of the program. If the Federal Emergency Management Agency (FEMA) receives documentation that the community has adopted the required floodplain management measures prior to the effective suspension date given in this rule, the suspension will be withdrawn by publication in the Federal Register.

EFFECTIVE DATES: The effective date of each community's suspension is the third date (“Susp.”) listed in the third column of the following tables.

ADDRESSES: If you wish to determine whether a particular community was suspended on the suspension date, contact the appropriate FEMA Regional Office or the NFIP servicing contractor.

FOR FURTHER INFORMATION CONTACT: Edward Pasterick, Division Director, Program Marketing and Partnership Division, Federal Insurance Administration and Mitigation Directorate, 500 C Street, SW.; Room 411, Washington, DC 20472, (202) 646-3098.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the National Flood Insurance Program, 42 U.S.C. 4001 et seq. unless an appropriate public body adopts adequate floodplain management measures with effective enforcement measures. The communities listed in this document no longer meet that statutory requirement for compliance with program regulations, 44 CFR part 59 et seq. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, the Federal Emergency Management Agency has identified the special flood hazard areas in these communities by publishing a Flood Insurance Rate Map (FIRM). The date of the FIRM if one has been published, is indicated in the fourth column of the table. No direct Federal financial assistance (except assistance pursuant to the Robert T. Stafford Disaster Relief and Emergency Assistance Act not in connection with a flood) may legally be provided for construction or acquisition of buildings in the identified special flood hazard area of communities not participating in the NFIP and identified for more than a year, on the Federal Emergency Management Agency's initial flood insurance map of the community as having flood-prone areas (section 202(a) of the Flood Disaster Protection Act of 1973, 42 U.S.C. 4106(a), as amended). This prohibition against certain types of Federal assistance becomes effective for the communities listed on the date shown in the last column. The Associate Director finds that notice and public comment under 5 U.S.C. 553(b) are impracticable and unnecessary because communities listed in this final rule have been adequately notified.

Each community receives a 6-month, 90-day, and 30-day notification addressed to the Chief Executive Officer that the community will be suspended unless the required floodplain management measures are met prior to the effective suspension date. Since these notifications have been made, this final rule may take effect within less than 30 days.

National Environmental Policy Act

This rule is categorically excluded from the requirements of 44 CFR part 10, Environmental Considerations. No environmental impact assessment has been prepared.

Regulatory Flexibility Act

The Associate Director has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless they take remedial action.

Regulatory Classification

This final rule is not a significant regulatory action under the criteria of section 3(f) of Executive Order 12866 of September 30, 1993, Regulatory Planning and Review, 58 FR 51735.

Paperwork Reduction Act

This rule does not involve any collection of information for purposes of the Paperwork Reduction Act, 44 U.S.C. 3501 et seq.

Executive Order 12612, Federalism

This rule involves no policies that have federalism implications under Executive Order 12612, Federalism, October 26, 1987, 3 CFR, 1987 Comp.; p. 252.

Executive Order 12778, Civil Justice Reform

This rule meets the applicable standards of section 2(b)(2) of Executive Order 12778, October 25, 1991, 56 FR 55195, 3 CFR, 1991 Comp.; p. 309.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in special flood hazard areas
Region III:
Virginia: Danville, city of, Pittsylvania County | 510044 | October 17, 1974, Emerg.; March 16, 1981, Reg. August 9, 2001 | 8/9/01 | 8/9/01
Region X:
Washington: Washtucna, town of, Adams County | 530006 | December 26, 1975, Emerg.; September 30, 1988, Reg. August 9, 2001 | -do- | -do-
Region II:
New York: Elba, town of, Essex County | 361156 | March 7, 1975, Emerg.; July 20, 1979, Reg. August 23, 2001 | 8/23/01 | 8/23/01
Region VI:
Louisiana: Albany, village of, Livingston Parish | 220114 | October 14, 1983, Emerg.; October 14, 1983, Reg. August 23, 2001 | -do- | -do-
Denham Springs, city of, Livingston Parish | 220116 | June 25, 1975, Emerg.; October 15, 1981, Reg. August 23, 2001 | -do- | -do-
Killian, village of, Livingston Parish | 220355 | October 26, 1977, Emerg.; August 1, 1987, Reg. August 23, 2001 | -do- | -do-
Livingston, town of, Livingston Parish | 220118 | June 21, 1978, Emerg.; April 15, 1979, Reg. August 23, 2001 | -do- | -do-
Livingston Parish, unincorporated areas | 220113 | May 20, 1977, Emerg.; September 30, 1988, Reg. August 23, 2001 | -do- | -do-
Port Vincent, village of, Livingston Parish | 220119 | May 17, 1977, Emerg.; August 16, 1988, Reg. August 23, 2001 | -do- | -do-
Springfield, town of, Livingston Parish | 220120 | March 24, 1998, Reg. August 23, 2001 | -do- | -do-
Texas: Cedar Hill, city of, Dallas County | 480168 | June 21, 1974, Emerg.; April 1, 1981, Reg. August 23, 2001 | -do- | -do-
Cockrell Hill, city of, Dallas County | 480169 | February 29, 1996, Emerg.; August 23, 2001 | -do- | -do-
Coppell, city of, Dallas County | 480170 | June 11, 1975, Emerg.; August 1, 1980, Reg. August 23, 2001 | -do- | -do-
Dallas County, unincorporated areas | 480165 | September 4, 1970, Emerg.; July 19, 1982, Reg. August 23, 2001 | -do- | -do-
DeSoto, city of, Dallas County | 480172 | June 12, 1974, Emerg.; May 5, 1981, Reg. August 23, 2001 | -do- | -do-
Duncanville, city of, Dallas County | 480173 | April 16, 1974, Emerg.; April 13, 1981, Reg. August 23, 2001 | -do- | -do-
Farmers Branch, city of, Dallas County | 480174 | February 25, 1972, Emerg.; February 15, 1978, Reg. August 23, 2001 | -do- | -do-
Garland, city of, Dallas County | 485471 | August 7, 1970, Emerg.; April 16, 1971, Reg. August 23, 2001 | -do- | -do-
Glenn Heights, city of, Dallas County | 481265 | July 8, 1980, Emerg.; July 16, 1980, Reg. August 23, 2001 | -do- | -do-
Grand Prairie, city of, Dallas County | 485472 | October 1, 1971, Emerg.; July 6, 1973, Reg. August 23, 2001 | -do- | -do-
Highland Park, town of, Dallas County | 480178 | October 30, 1974, Emerg.; July 16, 1979, Reg. August 23, 2001 | -do- | -do-
Hutchins, city of, Dallas County | 480179 | May 13, 1975, Emerg.; May 1, 1980, Reg. August 23, 2001 | -do- | -do-
Irving, city of, Dallas County | 480180 | June 19, 1970, Emerg.; November 19, 1980, Reg. August 23, 2001 | -do- | -do-
Lancaster, city of, Dallas County | 480182 | May 28, 1974, Emerg.; August 3, 1981, Reg. August 23, 2001 | -do- | -do-
Mesquite, city of, Dallas County | 485490 | July 24, 1970, Emerg.; July 30, 1971, Reg. August 23, 2001 | -do- | -do-
Richardson, city of, Dallas County | 480184 | February 20, 1975, Emerg.; December 4, 1979, Reg. August 23, 2001 | -do- | -do-
Rowlett, city of, Dallas County | 480185 | June 10, 1975, Emerg.; September 1, 1978, Reg. August 23, 2001 | -do- | -do-
Sachse, city of, Dallas County | 480186 | July 25, 1975, Emerg.; September 1, 1978, Reg. August 23, 2001 | -do- | -do-
Seagoville, city of, Dallas County | 480187 | June 25, 1975, Emerg.; June 15, 1981, Reg. August 23, 2001 | -do- | -do-
Sunnyvale, town of, Dallas County | 480188 | July 16, 1975, Emerg.; February 1, 1980, Reg. August 23, 2001 | -do- | -do-
University Park, city of, Dallas County | 480189 | March 12, 1975, Emerg.; November 15, 1979, Reg. August 23, 2001 | -do- | -do-
Wilmer, city of, Dallas County | 480190 | June 2, 1975, Emerg.; September 17, 1980, Reg. August 23, 2001 | -do- | -do-
Region IX:
Arizona: Avondale, city of, Maricopa County | 040038 | August 25, 1975, Emerg.; June 15, 1979, Reg. August 23, 2001 | -do- | -do-
Buckeye, town of, Maricopa County | 040039 | December 17, 1974, Emerg.; February 15, 1980, Reg. August 23, 2001 | -do- | -do-
Carefree, town of, Maricopa County | 040126 | December 31, 1970, Emerg.; July 2, 1979, Reg. August 23, 2001 | -do- | -do-
Cave Creek, town of, Maricopa County | 040129 | June 9, 1988, Emerg.; June 9, 1988, Reg. August 23, 2001 | -do- | -do-
Chandler, city of, Maricopa County | 040040 | May 16, 1975, Emerg.; July 16, 1980, Reg. August 23, 2001 | -do- | -do-
El Mirage, city of, Maricopa County | 040041 | August 8, 1975, Emerg.; December 1, 1978, Reg. August 23, 2001 | -do- | -do-
Fountain Hills, town of, Maricopa County | 040135 | February 10, 1994, Reg. August 23, 2001 | -do- | -do-
Gila Bend, town of, Maricopa County | 040043 | May 16, 1975, Emerg.; December 4, 1979, Reg. August 23, 2001 | -do- | -do-
Glendale, city of, Maricopa County | 040045 | March 20, 1975, Emerg.; April 16, 1979, Reg. August 23, 2001 | -do- | -do-
Gilbert, town of, Maricopa County | 040044 | June 10, 1975, Emerg.; January 16, 1980, Reg. August 23, 2001 | -do- | -do-
Goodyear, city of, Maricopa County | 040046 | August 8, 1975, Emerg.; July 16, 1979, Reg. August 23, 2001 | -do- | -do-
Guadalupe, town of, Maricopa County | 040111 | April 1, 1994, Emerg.; August 23, 2001 | -do- | -do-
Litchfield Park, city of, Maricopa County | 040128 | August 19, 1988, Emerg.; August 19, 1988, Reg. August 23, 2001 | -do- | -do-
Maricopa County, unincorporated areas | 040037 | December 31, 1970, Emerg.; July 2, 1979, Reg. August 23, 2001 | -do- | -do-
Mesa, city of, Maricopa County | 040048 | September 29, 1972, Emerg.; May 15, 1980, Reg. August 23, 2001 | -do- | -do-
Paradise Valley, town of, Maricopa County | 040049 | September 15, 1972, Emerg.; May 1, 1980, Reg. August 23, 2001 | -do- | -do-
Peoria, city of, Maricopa County | 040050 | June 18, 1975, Emerg.; November 17, 1978, Reg. August 23, 2001 | -do- | -do-
Phoenix, city of, Maricopa County | 040051 | December 17, 1971, Emerg.; December 4, 1979, Reg. August 23, 2001 | -do- | -do-
Queen Creek, town of, Maricopa County | 040132 | July 22, 1992, Reg. August 23, 2001 | -do- | -do-
Scottsdale, city of, Maricopa County | 045012 | March 26, 1971, Emerg.; September 21, 1973, Reg. August 23, 2001 | -do- | -do-
Surprise, city of, Maricopa County | 040053 | March 26, 1976, Emerg.; December 15, 1978, Reg. August 23, 2001 | -do- | -do-
Tempe, city of, Maricopa County | 040054 | November 18, 1974, Emerg.; August 15, 1980, Reg. August 23, 2001 | -do- | -do-
Tolleson, city of, Maricopa County | 040055 | February 18, 1975, Emerg.; January 16, 1980, Reg. August 23, 2001 | -do- | -do-
Wickenburg, town of, Maricopa County | 040056 | January 16, 1974, Emerg.; January 5, 1978, Reg. August 23, 2001 | -do- | -do-
Youngstown, city of, Maricopa County | 040057 | June 5, 1975, Emerg.; November 15, 1978, Reg. August 23, 2001 | -do- | -do-
Shishmaref, city of, unorganized borough | 020084 | June 5, 1998, Emerg.; August 23, 2001 Reg. August 23, 2001 | -do- | -do-
Region IX:
Idaho: Idaho County, unincorporated areas | 160123 | February 16, 1979, Emerg.; May 2, 1997, Reg. August 23, 2001 | -do- | -do-
Code for reading third column: Emerg.—Emergency; Reg.—Regular; Susp.—Suspension.

Dated: August 1, 2001.
Robert F. Shea,
Acting Administrator, Federal Insurance and Mitigation Administration.

[FR Doc. 01-20723 Filed 8-16-01; 8:45 am]

BILLING CODE 6718-05-P